DEPARTMENT OF THE TREASURY

Office of Thrift Supervision

Submission for OMB Review; Comment Request

October 4, 2000.

The Office of Thrift Supervision (OTS) has submitted the following public information collection requirement(s) to OMB for review and clearance under the Paperwork Reduction Act of 1995, Public Law 104-13. Interested persons may obtain copies of the submission(s) by calling the OTS Clearance Officer listed. Send comments regarding this information collection to the OMB reviewer listed and to the OTS Clearance Officer, Office of Thrift Supervision, 1700 G Street, NW, Washington, DC 20552.

DATES: Submit written comments on or before November 9, 2000.

OMB Number: 1550-0063.

Form Number: OTS Form 1564.

Type of Review: Regular review.

Title: Activities of Savings and Loan Holding Companies.

Description: 12 CFR Part 584.2-1 required prior notification to the OTS by savings and loan holding companies proposing to engage in prescribed services and activities. The OTS uses this information to track activities and decide the advisability of other actions.

Respondents: Savings and Loan Associations and Savings Banks.

Estimated Number of Responses: 2.

Estimated Burden Hours Per Response: 2 hours.

Frequency of Response: Once per year.

Estimated Total Reporting Burden: 4 hours.

Clearance Officer: Ralph E. Maxwell, (202) 906-7740, Office of Thrift Supervision, 1700 Street, NW, Washington, DC 20552.

OMB Reviewer: Alexander Hunt, (202) 395-7860, Office of Management and Budget, Room 10202, New Executive Office Building, Washington, D.C. 20503.

John E. Werner,
Director, Information & Management Services.

[FR Doc. 00-25941 Filed 10-6-00; 8:45 am]

BILLING CODE 6720-01-P